DEPARTMENT OF HEALTH AND HUMAN SERVICES

National Institutes of Health

National Institute of Neurological Disorders and Stroke; Cancellation of Meeting

Notice is hereby given of the cancellation of the National Advisory Neurological Disorders and Stroke Council, September 18, 2008, 8 a.m. to September 18, 2008, 10 a.m., National Institutes of Health, Building 31, 31 Center Drive, C Wing, Conference Room 7, Bethesda, MD 20892 which was published in the Federal Register on August 22, 2008, 73; FR E8-19449.

The Basic and Preclinical Programs Subcommittee meeting has been canceled.

Dated: August 29, 2008.
Jennifer Spaeth,
Director, Office of Federal Advisory Committee Policy.

[FR Doc. E8-20633 Filed 9-8-08; 8:45 am]

BILLING CODE 4140-01-M